DEPARTMENT OF HOUSING AND URBAN DEVELOPMENT

[Docket No. FR-4950-C-1B]

Notice of HUD's Fiscal Year (FY) 2005 Notice of Funding Availability, Policy Requirements and General Section to SuperNOFA for HUD's Discretionary Grant Programs; Correction

AGENCY: Office of the Secretary, HUD.

ACTION: Super Notice of Funding Availability (SuperNOFA) for HUD Discretionary Grant Programs; correction.

SUMMARY: On March 21, 2005, HUD published its Fiscal Year (FY) 2005, Notice of Funding Availability (NOFA), Policy Requirements and General Section to the SuperNOFA for HUD's Discretionary Grant Programs. This document makes corrections to the Indian Community Development Block Grant Program (ICDBG), the Hispanic-Serving Institutions Assisting Communities (HSIAC) Program, the Community Outreach Partnership Centers (COPC) Program, the Housing Counseling Program, the Lead-Based Paint Hazard Control Grant Program, the Healthy Homes Technical Studies Program, the Lead Technical Studies Program, the Lead Outreach Grant Program, the Lead Hazard Reduction Demonstration Grant Program, the Healthy Homes Demonstration Grant Program, the Operation Lead Elimination Action Program, the Youthbuild Program, the Public Housing Neighborhood Networks Program, the Public Housing Resident Opportunity and Self-Sufficiency (ROSS) Program, the Public Housing Family Self Sufficiency Program, the Assisted Living Conversion Program, and the Continuum of Care Program. This notice also extends the application submission dates for the ICDBG Program, the Housing Counseling Program, the Public Housing Neighborhood Networks Program, and the Public Housing Family Self-Sufficiency Program. These changes affect the NOFAS listed, but do not affect the application packages on Grants.gov

DATES: The application submission dates for the following program sections of the SuperNOFA have been extended as follows:

Indian Community Development Block Grant Program: June 20, 2005.

Housing Counseling Program: June 27, 2005.

Public Housing Neighborhood Networks Program: June 11, 2005.

Public Housing Family Self-Sufficiency Program: June 28, 2005.

With the exception of the Section 811 Supportive Housing for Persons with Disabilities Program NOFA for which HUD published a technical correction and deadline extension (May 10, 2005, 70 FR 24609), the application submission dates for all other program sections of the SuperNOFA remain as published in the Federal Register on March 21, 2005.

FOR FURTHER INFORMATION CONTACT: For the programs listed in this notice, please contact the office or individual listed under Section VII of the individual program sections of the SuperNOFA, published on March 21, 2005.

SUPPLEMENTARY INFORMATION: On March 21, 2005 (70 FR 13575), HUD published its Notice of HUD's Fiscal Year (FY) 2005, Notice of Funding Availability (NOFA), Policy Requirements and General Section to the SuperNOFA for HUD's Discretionary Grant Programs. The FY2005 SuperNOFA announced the availability of approximately $2.26 billion in HUD assistance. This notice published in today's Federal Register makes technical corrections to the Indian Community Development Block Grant Program (ICDBG), the Hispanic-Serving Institutions Assisting Communities (HSIAC) Program, the Community Outreach Partnership Centers (COPC) Program, the Housing Counseling Program, the Lead-Based Paint Hazard Control Grant Program, the Healthy Homes Technical Studies Program, the Lead Technical Studies Program, the Lead Outreach Grant Program, the Lead Hazard Reduction Demonstration Grant Program, the Healthy Homes Demonstration Grant Program, the Operation Lead Elimination Action Program, the Youthbuild Program, the Public Housing Neighborhood Networks Program, the Public Housing Resident Opportunity and Self-Sufficiency (ROSS) Program, the Public Housing Family Self Sufficiency Program, the Assisted Living Conversion Program, and the Continuum of Care Program.

Summary of Technical Corrections

Summaries of the technical corrections made by this document follow. The page number shown in brackets identifies where the individual funding availability announcement that is being corrected can be found in the March 21, 2005, SuperNOFA. The technical correction described in today's Federal Register will also be reflected in the application instructions located on Grants.gov/Apply. Applicants submitting their applications electronically are encouraged to read the instructions located on Grants.gov/Apply prior to submitting their application.

General Section [Page 13575]

On page 13593, HUD is publishing a revised Appendix A, entitled “HUD 2005 SuperNOFA Funding Chart that contains revised and extended deadlines for ICDBG Program, the Housing Counseling Program, the Public Housing Neighborhood Networks Program, and the Public Housing Family Self-Sufficiency Program. The revised Funding Chart also reflects the extended deadline for the Section 811 Program as established by HUD's technical correction published on May 10, 2005, (70 FR 24609).

Indian Community Development Block Grant Program (ICDBG) [Page 13654]

On page 13655, Overview Information, section F., first column is revised to reflect an extension of the application submission date.

On page 13655, section I.C., third column, HUD mistakenly referenced FY2004 when establishing the grant ceiling for imminent threat requests. The $425,000 grant ceiling for imminent threat requests is for FY2005.

On page 13657, section II.C 3., first column, HUD incorrectly provided that grantees, by accepting a grant, must provide assurance that it will comply with 24 CFR part 95. In fact, grantees must provide assurance that they will comply with 24 CFR part 85.

On page 13666, section V.A. under Rating Factor 2, paragraph (b), third column, HUD incorrectly listed the dollar range needed to obtain 10 points for New Housing Construction, Housing Rehabilitation, Land Acquisition to support New Housing and Homeownership Assistance Projects. Consistent with Appendix A of the program NOFA, grantees will receive 10 points if the dollar amount for the Indian Tribe for this factor is $676-$1,200.

On page 13667, section V.A. under Rating Factor 3, paragraph (1), first column, HUD incorrectly noted that applicants must include anticipated cost savings due to innovative program design “or” construction methods. In fact, applicants must include anticipated cost savings due to innovative program design or construction methods or both.

On page 13670, section V.A. under Rating Factor 5, paragraph (1), first column, HUD inadvertently failed to indicate that up to two points are available for this selection factor. In addition, on page 13670, section V.A. under Rating Factor 5, paragraph (2), first column, HUD inadvertently failed to indicate that up to three points are available for this selection factor.

On page 13670, section V.B.2., middle column, paragraph entitled “Threshold Compliance,” HUD's cross-reference contained a typographic error. The cross-reference should direct readers to section III.C.3 and 4 of the ICDBG program NOFA.

These corrections are also reflected in the instructions found on Grants.gov/Apply. HUD encourages applicants to read the instructions on Grants.gov/Apply prior to submitting your application in response to the ICDBG Program funding opportunity.

Hispanic-Serving Institutions Assisting Communities (HSIAC) Program [Page 13711]

On page 13712, section G.3., middle column, and on page 13712, in section III.A., third column, HUD inadvertently misdirected readers to the General Section for a definition of “Colonias.” Readers should be directed to Attachment C of the HSIAC program NOFA for the definition of “Colonias.”

On page 13718, section V.B.3., third column, HUD intends to add a sentence that provides that it will fund the two highest rated application that serve Colonias areas that score above 75 points.

These corrections are also reflected in the instructions found on Grants.gov/Apply. HUD encourages applicants to read the instructions on Grants.gov/Apply prior to submitting your application in response to the HSIAC Program funding opportunity.

Community Outreach Partnership Centers (COPC) [Page 13743]

On page 13744, section G.3., second column, page 13745, section III.A, first column, and on page 13753, section V.B.3., first column, HUD inadvertently misdirected readers to the General Section for a definition of “Colonias.” Readers should be directed to Attachment C of the COPC for the definition of “Colonias.”

This correction is also reflected in the instructions found on Grants.gov/Apply. HUD encourages applicants to read the instructions on Grants.gov/Apply prior to submitting your application in response to the COPC Program funding opportunity.

Housing Counseling Programs [Page 13806]

On page 13807, Overview Information, section F., first column, the application submission date is extended to June 13, 2005.

On pages 13807 to 13808, sections II.A, II.B.1. and 2., and II.C.1 and 2., HUD had originally earmarked $2.75 million for housing counseling training and had planned to make this assistance available through a separate NOFA. HUD has now decided not to issue a housing counseling training NOFA and to allocate the $2.75 million to this Housing Counseling Program NOFA. As a result, the total amount of assistance now available through this NOFA is increased from $38.914 million to $41.664 million. HUD has decided to increase the amount of assistance for comprehensive counseling for intermediaries by $1.0 million, increase HECM counseling by $1.0 million and increase comprehensive counseling for Local Housing Counseling Agencies by $750,000. In addition, this notice corrects an error in the chart following section II.B.1., that listed comprehensive counseling funds for the Denver HOC as $345,317 instead of $3,345,317. With the distribution of the $2.75 million now allocated to this NOFA, the new comprehensive total for Denver is $3,539,511. This change also affects amounts available for individuals awards under the LHCA and the HUD-approved intermediaries initiatives.

On page 13811, section III.C.3.b., first column, HUD inadvertently omitted the word “comprehensive” from the text. The word “comprehensive” is significant because grant awards are calculated based on a score for comprehensive funds. All applicants that achieve a fundable score are awarded a base amount for comprehensive counseling.

On page 13812, section III.C.4.b., subsections (4) and (5), second column, HUD is republishing these paragraphs to clarify eligibility requirement.

On page 13812, section III.C.4.c.(1)(a), third column, HUD incorrectly cited section 501(c)(3) of the Internal Revenue Code in defining nonprofit status. The correct cite should be section 501(c) of the Internal Revenue Code.

On page 13814, section IV.B.2., first and second columns, HUD is clarifying the period of performance that should be reflected on the required form HUD-9902. HUD also inadvertently included, as part of the application checklist, “Letters, Contracts and MOU's.” HUD is removing this requirement consistent with Rating Factor 4.

On page 13818, section V.A.3.c.(1)(e), first column, HUD is republishing this subsection to clarify the information requested.

On page 13818, section V.A.3.c.(2)(b) and section V.A.3.c.(2)(c), third column, HUD is republishing these subsections to correct the cross-references.

On page 13819, section V.A.3.c.(3)(a), first column, HUD is republishing the first paragraph of this subsection to correct the cross-reference.

On page 13820, section V.A.3.c.(5)(b) and (c), first column, HUD is republishing the paragraphs (b) and (c) to correct the cross-references.

On page 13821, first column, section V.A.3.d, first column, HUD is clarifying the period of performance regarding the requested leveraged resources.

On page 13821, section V.A.3.d.(3), first and second columns, HUD is republishing the paragraph to indicate that HUD's interest regarding leveraged resources is limited to those resources corresponding to anticipated sub-grantees and not the entire network of affiliated counseling agencies.

On page 13821, section V.A.3.e.(1)(a), third column, HUD is revising the bulleted text in order to clarify the requirements.

On page 13822, section V.B., second column, HUD is publishing a description of funding methodology as well as an explanation of reallocation of unspent funds.

These corrections are also reflected in the instructions found on Grants.gov/Apply. HUD encourages applicants to read the instructions on Grants.gov/Apply prior to submitting your application in response to the Housing Counseling Program funding opportunity.

Lead-Based Paint Hazard Control Program [Page 13836]

On page 13838, section III.A.1.a., third column, HUD incorrectly defined “general applicant,” specifically as related to previously funded lead-based paint hazard control grantees. Consistent with the chart at page 13839, general applicants are new applicants, previously funded lead-based paint hazard control grantees whose period of performance ended prior to the NOFA submission date, and current grantees with grants ending on or before December 31, 2005 (including those who are not awarded under the Competitive Performance-Based Renewal category).

On page 13848, section V.A.3, third column, HUD incorrectly listed 30 available points for Rating Factor 3: Soundness of Approach, however consistent with information at sections V.A.3.a., V.A.3.b., and V.A.3.d. there are actually 40 available points for this rating factor.

These corrections are also reflected in the instructions found on Grants.gov/Apply. HUD encourages applicants to read the instructions on Grants.gov/Apply prior to submitting your application in response to the Lead-Based Paint Hazard Control Program funding opportunity.

Healthy Homes Technical Studies Program [Page 13860]

On page 13864, section IV.B.1.i, third column and continuing to page 13865, first column, under “Required Forms and Budget Material,” HUD is deleting the bullet reading, “Form HUD 2994 Client Comments and Suggestions (Optional)” and substituting the “Form HUD-2993 Acknowledgement of Application Receipt, applicable to paper copy submissions only.”

This correction is also reflected in the instructions found on Grants.gov/Apply. HUD encourages applicants to read the instructions on Grants.gov/Apply prior to submitting your application in response to the Health Home Technical Studies Program funding opportunity.

Lead Technical Studies [Page 13871]

On page 13876, section IV.B.1.j., first column, under “Required Forms and Budget Material,” among the list of required forms and budget material, HUD is adding Form HUD-2993 Acknowledgement of Application Receipt, applicable to paper copy submissions only. This technical correction amends the instructions found on Grants.gov/Apply as Instructions to be downloaded along with the electronic application for the Lead Technical Studies Program funding opportunity made available on Grants.gov/Apply.

Lead Outreach Grant Program [Page 13881]

On page 13884, section IV.B.2.b.(7), third column, HUD is removing from the list of required documentation, the copy of the HUD-approved waiver from electronic submission requirement.

On pages 13891-13895, the forms were not intended for this program and were inadvertently included. The forms, HUD-96012, 96013, 96014, and 96015, and Work Plan Development Worksheet should be disregarded and were not included in the application package on Grants.gov.

These corrections are also reflected in the instructions found on Grants.gov/Apply. HUD encourages applicants to download and read the instructions on Grants.gov/Apply prior to submitting your application in response to the Lead Outreach Grant Program funding opportunity.

Lead Hazard Reduction Demonstration Program [Page 13896]

On page 13900, section V.B., third column, HUD is removing from the list of required forms, the copy of the HUD-approved waiver from electronic submission requirement.

This correction is also reflected in the instructions found on Grants.gov/Apply. HUD encourages applicants to download and read the instructions on Grants.gov/Apply prior to submitting your application in response to the Lead Hazard Reduction Demonstration Program funding opportunity.

Healthy Homes Demonstration Program [Page 13919]

On page 13920, section G.1, first column, HUD is making a clarification related to the content of appendices.

On page 13923, section III.C.3.n., third column, HUD is correcting a typographical error in a cross-reference. The section reference in the last sentence is being revised to read, section V.A.2.c.

On page 13924, section IV.B.7., under “Checklist for Healthy Homes Demonstration Program Applicants,” beginning on the second column and continuing to the third column, HUD inadvertently listed forms HUD-96013 and HUD-96014, which are not part of this application. The forms, located on pages 13933 and 13934 should be disregarded. The electronic application package and instructions did not contain these forms.

On page 13924, section IV.B.7., under “Checklist for Healthy Homes Demonstration Program Applicants,” beginning on the second column and continuing to the third column, HUD is removing from the list of required documentation, the copy of HUD's approved waiver from electronic submission requirement.

On page 13924, section IV.B.7. under “Checklist for Healthy Homes Demonstration Program Applicants,” beginning on the second column and continuing to the third column under, “Required materials in response to rating factors,” although referenced on page 13928, HUD did not include Form HUD-27300 in the checklist. Therefore, the checklist is corrected to include Form HUD-27300 Questionnaire for HUD's Initiative on Removal of Regulatory Barriers and the application instructions are amended to include the form as a file for attachment to the electronic application either as an attached, scanned or faxed document.

On page 13926, section V.A.2.a.(4), middle column, the table referenced at Web site http://www.HUD.gov/offices/adm/grants/fundsavail.cfm is located at the end of the NOFA.

On page 13929, section V.A.2.d.(2), first column, a clarification is made that indicates that the Rating Factor 4 Table can be found at the end of the NOFA.

On page 13931, section VIII.B, third column, a change is necessary to clarify the contents of the appendix.

Operation Lead Elimination Action Program [Page 13936]

On page 13939, section IV.B.a.(2), third column, under “Checklist and Submission Table of Contents Lead Elimination Action Program,” HUD is removing from the list of required documentation, the copy of HUD's approved waiver from electronic submission requirement.

This technical correction amends the instructions found on Grants.gov/Apply as Instructions to be downloaded along with the electronic application for the Operation Lead Elimination Action Program funding opportunity made available on Grants.gov/Apply.

Youthbuild [Page 13977]

On page 13985, section V.E., middle column, two changes are made to correct typographical errors. First, in the sixth bulleted item, it is made clear that the numerator is the number of graduates who have entered employment or enrolled in post secondary education. Second, in the seventh bulleted item, it is made clear that it is the number and percentage of participants, not graduates, who made literacy and numeracy gains.

This correction is also reflected in the instructions found on Grants.gov/Apply. HUD encourages applicants to download and read the instructions on Grants.gov/Apply prior to submitting your application in response to the Youthbuild Program funding opportunity.

Public Housing Neighborhood Networks [Page 14023]

On page 14024, Overview Information, section F., first column, the application submission deadline is extended to July 11, 2005.

On page 14027, section III.C.1, first column, a new paragraph “g,” and on page 14028, section IV.B.4.(2), middle column a new paragraph “4” is added to clarify and make consistent the requirements for site control for off-site property.

On page 14028, section IV.B.4.(2), tab 2, middle column, HUD is adding a new paragraph “4” that addresses documentation of site control.

On page 14028, section IV.E.2.c, third column, additional explanation is added concerning salaries of staff that provide direct services to residents. Direct services staff are defined as housing authority personnel who, as their primary responsibility, provide services directly to residents that participate in the activities described in this application.

On page 14028, section IV.E.4.f., third column, to avoid confusion, the paragraph is revised stating that salaries and fringe benefits for staff that are not direct services staff are among the list of ineligible activities/costs.

These corrections are also reflected in the instructions found on Grants.gov/Apply. HUD encourages applicants to download and read the instructions on Grants.gov/Apply prior to submitting your application in response to the Public Housing Neighborhood Networks Program funding opportunity.

Public Housing Resident Opportunities and Self-Sufficiency (ROSS) Program [Page 14054]

On page 14063, section III.C.2.i., first column, a modification is made to indicate that Tribal/TDHE applicants must provide a letter that certifies compliance with the requirement that such applicants to the HSS program have a Low-Income Homeownership Program outlined in their current Indian Housing Plan.

On page 14065, section IV.E.6.h., third column, HUD is removing a provision that was unintentionally included in the NOFA. This correction will delete the paragraph (h) that incorrectly lists “Elderly/Disabled Service Coordinator salary and fringe benefits.”

These corrections are also reflected in the instructions found on Grants.gov/Apply. HUD encourages applicants to download and read the instructions on Grants.gov/Apply prior to submitting your application in response to the ROSS Program funding opportunity.

Public Housing Family Self-Sufficiency Program [Page 14087]

On page 14087, section F. under “Overview Information,” the due date of June 20, 2005 is extended to June 28, 2005.

On page 14088, section A.3. under “Overview Information”, second column, the “Award Amounts” paragraph is revised to better explain the salary and fringe benefit provisions. A corresponding change is made in the table in the third column.

On page 14089, section III.C., second column, add a new paragraph III.C.1 that explains that FSS grant funds may only be used to pay for the annual salary and fringe benefits of a FSS Program Coordinator. Subsequent paragraphs will be renumbered accordingly.

On page 14090, section III.C.2.g., second column, HUD is revising this section in order to make clarifications concerning renewal of FSS program coordinator salary as well as staffing expansion.

On pages 14107 and 14108, HUD Form 52767, HUD is correcting typographical errors. First, in 5.d and 10.a the amount $63,000 should read “$65,000.” In addition, there are three references in number 9 that will be changed from “03” to “04.”

These corrections are also reflected in the instructions found on Grants.gov/Apply. HUD encourages applicants to download and read the instructions on Grants.gov/Apply prior to submitting your application in response to the Public Housing Family Self-Sufficiency Program funding opportunity.

Assisted Living Conversion Program [Page 14148]

On page 14149, section I, middle column, last full paragraph, HUD is revising the amount of funds set-aside for the emergency capital repairs.

On page 14150, section III.A.1, first column, HUD is adding owners of assisted living facilities to the list of ineligible applicants.

On page 14157, section IV.F., middle column, HUD is adding a new paragraph, IV.F.5. that explains application submission procedures for applicants that are granted a waiver from the electronic submission requirement. If an applicant is granted a waiver, the applicant must submit an original and four copies of the application to the director of the appropriate Multifamily Hub Office.

On page 14160, section VII.A, third column, HUD is adding additional instructions for applicants in how they may contact HUD Multifamily Hubs.

These corrections are also reflected in the instructions found on Grants.gov/Apply. HUD encourages applicants to download and read the instructions on Grants.gov/Apply prior to submitting your application in response to the ALCP Program funding opportunity.

Continuum of Care Homeless Assistance Programs [Page 14272]

On page 14279, section III.C.3.e.(2)(b), middle column, HUD is adding additional explanation about calculating administrative allocation.

On page 14288, section 2, on page 14289, sections 3, 4, and 5, and on page 14290, section 6, Form HUD-2992 “Certification Regarding Debarment and Suspension” was inadvertently included with the list of forms. HUD is eliminating this form from the lists of required forms.

On page 14294, Exhibit 1: Continuum of Care Narrative and Form HUD-40076 CoCB instruction, section e., HUD is amending the section to indicate that in order to obtain a higher competitive score for “participation,” planning participants must attend more than 80 percent of the planning or committee meetings or both. HUD is also amending the related reference for this section in regard to the 30 page limit.

On page 14342, Exhibit 2R: SHP Project Information—Continued, HUD is revising the instructions to state that renewal applicants for a dedicated HMIS project should answer items 1, 3, 4C and D.

These corrections are also reflected in the instructions found on Grants.gov/Apply. HUD encourages applicants to download and read the instructions on Grants.gov/Apply prior to submitting your application in response to the Continuum of Care Program funding opportunity.

Accordingly, in the Notice of HUD's Fiscal Year (FY) 2005, Notice of Funding Availability (NOFA), Policy Requirements and General Section to the SuperNOFA for HUD's Discretionary Grant Programs, beginning at 70 FR 113575, in the issue of March 21, 2005, the following corrections are made.

1. General Section, beginning at page 13576:

On page 13593, HUD is republishing a corrected Appendix A entitled, HUD 2005 SuperNOFA Funding Chart.

BILLING CODE 4210-32-P

BILLING CODE 4210-32-C

2. Indian Community Development Block Grant Program (ICDBG), beginning at page 13654:

On page 13655, Overview Information, section F, the paragraph is revised to read as follows:

F. Dates: Application Deadline. The application submission date is June 20, 2005.

On page 13655, section I.C., third column, in the paragraph that begins in the middle column, remove the term, “FY 2004,” and add in its place, “FY2005.”

On page 13657, section II.C 3., first column, remove the reference to 24 CFR part 95 and add in its place a reference to 24 CFR part 85.

On page 13666, section V.A. under Rating Factor 2, paragraph (b), third column, remove the dollar amount range “$67-$1,200” and add in its place the following dollar amount range: “$676-$1,200.”

On page 13667, section V.A. under Rating Factor 3, paragraph (1), first column, in the paragraph that begins, “(14 points)* * * ,” the fifth sentence is revised to read as follows: The application must also include anticipated cost savings due to innovative program design or construction methods or both.

On page 13670, section V.A. under Rating Factor 5, paragraph (1), first column, remove the parenthetical that reads “(2 points),” and add in its place the following: “(up to 2 points).”

On page 13670, section V.A. under Rating Factor 5, paragraph (2), first column, remove the parenthetical that reads “(3 points),” and add in its place the following: “(up to 3 points).”

On page 13670, section V.B.2. middle column, remove the reference to IIIV.C.3 and 4 and add in its place a reference to III.C.3 and 4.

3. Hispanic-Serving Institutions Assisting Communities (HSIAC) Program, beginning at page 13711:

On page 13712, section G.3., middle column, remove the parenthetical phrase “(as defined in the General Section),” and add in its place the following: (refer to Attachment C of the HSIAC NOFA for the definition of “Colonias).” Attachment C is appended to this correction notice.

On page 13712, in section III.A., third column, remove the parenthetical phrase “(as defined in the General Section),” and add in its place the following: “(refer to Attachment C of the HSIAC NOFA for the definition of “Colonias).”

On page 13718, section V.B.3., third column, add the following at the end of paragraph 3.: “HUD intends to fund the two highest rated application that serve Colonias areas that score above 75 points.”

On page 13721, after “Attachment B (All Required Forms),” insert the following:

Attachment C

Definition of Colonias

Colonias means any identifiable, rural community that:

(1) Is located in Arizona, California, New Mexico, or Texas;

(2) Is within 150 miles of the border between the United States and Mexico; and

(3) Is determined to be a colonia on the basis of objective need criteria, including lack of potable water supply, lack of adequate sewage systems, and lack of decent, safe, sanitary, and accessible housing.

4. Community Outreach Partnership Centers (COPC), beginning at page 13743:

On page 13744, section G.3., second column, remove the parenthetical note, “(as defined in the General Section),” and add in its place the following: “(refer to Attachment C of the COPC NOFA for the definition of “Colonias).”

On page 13745, section III.A, first column, remove the parenthetical note, “(as defined in the General Section),” and add in its place the following: “(refer to Attachment C of the COPC NOFA for the definition of “Colonias).” Attachment C is appended to this correction notice.

On page 13753, section V.B.3., first column, remove the parenthetical note, “(as defined in the General Section),” and add in its place the following: “(refer to Attachment C of the COPC NOFA for the definition of “Colonias).”

On page 13762, after “Attachment B (All Required Forms),” insert the following:

Attachment C

Definition of Colonias

Colonias means any identifiable, rural community that:

(1) Is located in Arizona, California, New Mexico, or Texas;

(2) Is within 150 miles of the border between the United States and Mexico; and

(3) Is determined to be a colonia on the basis of objective need criteria, including lack of potable water supply, lack of adequate sewage systems, and lack of decent, safe, sanitary, and accessible housing.

5. Housing Counseling Programs, beginning at page 13806:

On page 13807, Overview Information, section F. first column, is revised to read as follows:

F. Dates. The application submission date is June 27, 2005. Please see the General Section of the SuperNOFA for application submission and receipt procedures.

On pages 13807 and 13808, beginning in the third column, sections II.A and II.B.1 and 2 are corrected to read as follows:

A. Amount Allocated. Approximately $41.664 million is appropriated for housing counseling in FY2005, all of which is available for eligible applicants under this NOFA. Specifically, $33.87 million is available for comprehensive counseling, $2.7 million is available for counseling services that address predatory lending, $1.7 million is available for counseling in conjunction with HUD's Homeownership Voucher Program, $394,000 is available for counseling services that specifically target Colonias, and $3.0 million is available for HECM counseling.

B. Specific Allocations. Funding is allocated to each Homeownership Center (HOC), regional HUD offices that oversee the Housing Counseling Program in their jurisdiction, by a formula that incorporates first-time homebuyer rates, default rates, HECM endorsements, and minority homebuyers.

Applicant categories | Who is eligible | Total amount available
Category 1—LHCAs | HUD-approved Local Housing Counseling Agencies | $15,704,946
Category 2—Intermediaries | HUD-approved National and Regional Intermediaries | 23,575,181
Category 3—SHFAs | State Housing Finance Agencies | 2,383,873

1. Category 1—Local Housing Counseling Agencies (LHCAs). Approximately $15,704,946 is available from HUD to directly fund HUD-approved LHCAs, including $13,670,000 for comprehensive counseling, $1,199,880 in supplemental funding for predatory lending, $722,500 in supplemental funding for counseling in conjunction with HUD's Homeownership Voucher Program, and $112,566 for counseling targeting Colonias.

HOC | Comprehensive counseling | Predatory lending | Homeownership voucher counseling | Colonias | Total
Philadelphia | $3,715,562 | $326,127 | $196,376 |  | $4,238,065
Atlanta | 3,921,762 | 344,246 | 207,285 |  | 4,473,293
Denver | 3,539,511 | 310,649 | 187,055 | 56,283 | 4,093,498
Santa Ana | 2,493,165 | 218,858 | 131,784 | 56,283 | 2,900,090
Total | 13,670,000 | 1,199,880 | 722,500 | 112,566 | 15,704,946

2. Category 2—Intermediaries. Approximately $23,575,181 is available from HUD to directly fund HUD-approved Intermediaries, including $18,200,000 for comprehensive counseling, $1,300,050 in supplemental funding for predatory lending, $850,000 in supplemental funding for counseling in conjunction with HUD's Homeownership Voucher Program, $225,131 for counseling targeting Colonias, and $3.0 million for HECM counseling.

On page 13808, sections II.C.1 and 2., first column, are corrected to read as follows:

C. Individual Awards.

1. Category 1: No individual LHCA may be awarded more than $290,000, which includes any supplemental funding. Specifically, the limit for Comprehensive Counseling is $180,000. The limit for supplemental funding for predatory lending is $40,000, the limit for supplemental funding for Homeownership Voucher Counseling is $30,000, and the limit for supplemental funding for Colonias is $40,000. HUD anticipates that the average total award for LHCAs will be approximately $45,000.

2. Category 2: Awards for individual HUD-approved intermediaries may not exceed $4.0 million, which includes any supplemental funding. The limit for Comprehensive Counseling is $3.0 million. The limit for supplemental funding for predatory lending is $325,000, the limit for supplemental funding for Homeownership Voucher Counseling is $275,000, the limit for supplemental funding for Colonias is $300,000 and the limit for HECM counseling is $3.0 million. HUD anticipates that the average total award for Intermediaries will be $1.5 million.

On page 13811, section III.C.3.b., first column, is corrected to read as follows:

b. Minimum grant request. Applications must contain a request for comprehensive funds of not less than $15,000 from LHCAs, not less than $50,000 from SFHAs and not less than $200,000 from Intermediaries. Applications for lesser amounts will not be considered. If supplemental funding is also being requested, applicants must specifically and separately identify “Comprehensive” and the specific amount requested on form SF-424A, Section B, as well as separately identify each supplemental category applied for.

On page 13812, section III.C.4.b., subsections (4) and (5), second column, are corrected to read as follows:

(4) Sub-grantees or branches funded under Categories 2 or 3 must not have directly applied for or received a grant under Category 1 of this NOFA, or applied for or received a sub-grant or funding from another intermediary or SHFA under Category 2 or 3 of this NOFA.

(5) Sub-grantees or branches may apply for and receive funding from only one intermediary or SHFA under Category 2 or 3, but not both. The only exception to this rule is that sub-grantees or branches that have one or more HECM Network Counselors that receive a sub-grant or funding from an intermediary or SHFA under Category 2 or 3 may also receive a sub-grant or be reimbursed exclusively for HECM counseling activities, from a HUD-approved intermediary that exclusively provides HECM counseling.

On page 13812, section III.C.4.c.(1)(a), third column, is corrected to read as follows:

(a) Nonprofit Status. An applicant and its branches or affiliates for approval must function as private or public nonprofit organizations. The applicant must submit evidence of nonprofit status as demonstrated by section 501(c) of the Internal Revenue Code approval (or pending approval) to support its nonprofit status and that of its branches or affiliates.

On page 13814, section IV.B.2., first column, revise the bulleted text concerning Form HUD-9902 to read as follows: “HUD-9902, Housing Counseling Agency Fiscal Year Activity Report, covering the period October 1, 2003—September 30, 2004.”

On page 13814, section IV.B.2., second column, remove the bulleted text that reads “Letters, Contracts, MOUs and/or other documentation that shows leveraged resources.”

On page 13818, section V.A.3.c.(1)(e), first column, is corrected to read as follows:

(e) The number of clients recorded on the Form HUD-9902 submitted with this application, covering the period October 1, 2003, through September 30, 2004, that participated in both group sessions or workshops and one-on-one counseling:

On page 13818, section V.A.3.c.(2)(b) and section V.A.3.c.(2)(c), third column, is corrected to read as follows:

(b) Describe the level of effort and time required to provide the housing counseling services described in part (a) and to meet the needs of clients. Explain the average counseling time per client figures provided in Section V.A.3.c (1)(a). Scoring will be based on the degree to which the applicant demonstrates that sufficient time and resources were devoted to ensure that clients received quality counseling.

(c) Explain the figures provided in Section V.A.3.c (1)(d)-(f) regarding group session participation and one-on-one counseling. Describe how clients come to participate in one or the other, the relationship between the two, and the role that each plays in the applicant's overall service provision.

On page 13819, section V.A.3.c.(3)(a), first column, is corrected to read as follows:

(a) Indicate how location, type of counseling, client type, and expenses may have affected client volume that appears on the Form HUD-9902, and in Section V.A.3.c (1)(d)-(f), that were served under the column “All Counseling Activities.” This total should reflect all the counseling activities performed by the applicant during the period October 1, 2003 through September 30, 2004, both with HUD housing counseling grant funds, if applicable, and with other leveraged resources.

On page 13820, section V.A.3.c.(5)(b) and (c), first column, are corrected to read as follows:

(b) Describe the level of effort and time the applicant anticipates is required to provide the proposed counseling services to, and meet the needs of, the number of clients it indicates in Rating Factor 5, Section V.A.3.e (1)(a) that it will serve with the proposed grant. Explain and describe the activities corresponding to the average counseling time figures for each counseling type provided in Section V.A.3.c.(5)(a).

(c) Explain the figures provided in Section V.A.3.e (1)(a) regarding proposed group session participation and one-on-one counseling. Describe how clients are selected for one or the other, the relationship between the two, and the role that each will play in the overall service provision.

On page 13821, section V.A.3.d, first column, first sentence of the second paragraph is corrected to read as follows: “Applicants will be evaluated based on their ability to show that they have obtained additional resources for their housing counseling activities, for the period October 1, 2005—September 30, 2006, including: Direct financial assistance; in-kind contributions, such as services, equipment, office space, labor; etc.”

On page 13821, section V.A.3.d.(3), first column, is corrected to read as follows:

(3) Intermediaries and SHFAs should include information on leveraged resources for only anticipated sub-grantees and branches that will be funded through this application.

On page 13821, section V.A.3.e.(1)(a), third column, the bulleted text is revised as follows:

• Provide the following figures. Do not provide ranges or percentages, but a specific numbers of clients. These amounts should represent individuals to be served entirely with HUD housing counseling funding. If, in reality, various funding sources will contribute to the services provided each individual, the applicant must prorate their response to reflect a figure representing services provided with only funding from the proposed grant.

• The total number of clients the applicant projects it and, if applicable, sub-grantees, will serve under the total proposed HUD grant, including all requested supplemental funding.

• If requesting supplemental funding, indicate the specific number of clients the applicant projects it, or if applicable, sub-grantees, will serve under the comprehensive counseling portion of the requested award.

• If requesting supplemental funding, separately indicate for each specific type of supplemental funding being requested, the number of clients the applicant projects it, or if applicable, sub-grantees, will serve under the proposed supplemental funding.

• The total number of clients that will receive Homebuyer Education Workshops or other types of classes offered as group sessions with the proposed award in general, and under each of the applicable supplemental funding types. In other words, the projected totals for Sections 6a and 6b on the form HUD-9902 that will correspond with the proposed grant year.

• The number of clients that will participate in one-on-one counseling, with the proposed award in general, and under each of the applicable supplemental funding types. In other words, the projected total for all of Section 7 on the form HUD-9902 that will correspond with the proposed grant year.

• The number of clients that will participate in both group sessions or workshops and one-on-one counseling, with the proposed award in general, and under each of the applicable supplemental funding types.

On page 13822, section V.B., middle column, add new paragraphs 5 and 6 after paragraph 4. to read as follows:

5. Funding Methodology

a. Comprehensive Counseling. The following funding formula will be used to calculate the comprehensive counseling portion of the awards under Categories 1-3. Only applicants who receive a score of 75 points or above will be considered eligible for funding. All eligible applicants will then be funded in proportion to the score they receive. Regarding the comprehensive counseling portion of an award, all grantees will receive the lower of either the comprehensive award amount determined with the formula, or the amount actually requested by the applicant, as indicated on the form SF-424A, Section B. This amount must be labeled “Comprehensive” to distinguish it from requested supplemental funds, if applicable. The formula will work as follows for each category:

(1) Funding Round 1. Every applicant that scores 75 points or above will receive a base award ($15,000 for LHCAs; $50,000 for SHFAs; and $200,000 for intermediaries). The total number of applicants receiving the base award will be multiplied by the relevant base amount, and that amount will be subtracted from the total amount available under the Category, or in the cases of Categories 1 and 3, available to the HOC.

(2) Funding Round 2. Then, the remaining balance after funding the Round 1 base awards will be divided by the total number of points all applicants in that Category, and HOC in the cases of Categories 1 and 3, score that are above the 75-point cutoff. The calculation will result in a dollar value for each point. The number of points that all applicants in a Category, and in a HOC in the cases of Categories 1 and 3, score above the 75 point base will be multiplied by that dollar value. The result of that calculation will be added to the base award. Any remaining funds after this calculation will carry over into the next funding round.

(3) This same methodology will be used for each subsequent round of funding until all available funds are awarded, or until all eligible applicants are funded to the maximum dollar amount allowed. Subsequent rounds of calculations, if needed, will distribute remaining funds to applicants that scored above 95 points, 91-95 points, 86-90 points, and 80-85 points, respectively.

b. Supplemental Funding. The same methodology described above in section a will be used to distribute the available supplemental funds for Predatory Lending, Homeownership Voucher Counseling, and Colonias to eligible applicants. Regarding supplemental funding, all grantees will receive the lower of either the supplemental award amount determined with the formula, or the specific amount of supplemental funding actually requested by the applicant, as indicated on Form SF-424A, Section B. Each applicant will only submit one application and receive a score based on the application for the comprehensive counseling grant. Comprehensive counseling funds will be allocated based on this score. Subsequently, for each supplemental funding category requested, responses to each rating factor will be evaluated on a yes/no, adequate/inadequate basis. An adequate response will result in a score for the supplemental funding identical to the comprehensive score on each respective rating factor. An inadequate supplemental response will result in a 1-point deduction from the comprehensive score. After all five rating factors have been evaluated, the adjusted ratings will result in a distinct score for the supplemental funds. This method will result in scores for supplemental funding that may be equal to the comprehensive score, or up to five points less than the comprehensive score. In no case can an applicant receive a higher score on an application for supplemental funding that it received on its comprehensive application. This process will be repeated for each supplemental funding allocation. An applicant will receive a separate score for its application for comprehensive counseling, and each supplemental funding category for which it applies. The base awards for the three supplemental funding categories eligible to all applicants will be $2,000 for LHCAs, $10,000 for SHFAs, and $40,000 for intermediaries. Only applicants scoring 75 points or above are eligible for supplemental funding. However, because of the limited amount of funds available, all applicants scoring 75 points or above are not guaranteed supplemental funding.

(1) For National and regional intermediaries, up to the top 5 scoring applicants (scoring 75 points or above) for supplemental funding for predatory lending and Homeownership Voucher Counseling that are eligible for supplemental funds, and have not already been fully funded in accordance with the funding methodology described in this section, will receive supplemental funding. For supplemental funding for Colonias, up to the top three scoring intermediary applicants (scoring 75 points or above) that are eligible for supplemental funds, and have not already been fully funded in accordance with the funding methodology described in this section, will receive supplemental funding. For supplemental funding for HECM, the top scoring intermediary applicant (scoring 75 points or above) that is eligible for supplemental funds, and has not already been fully funded in accordance with the funding methodology described in this section, will receive supplemental funding.

(2) For SHFAs, up to the top 2 scoring applicants (scoring 75 points or above) in each HOC for each supplemental category that are eligible for the supplemental funds, and have not already been fully funded, will receive supplemental funding.

(3) For LHCAs, up to the top 10 scoring applicants (scoring 75 points or above) in each HOC for each supplemental category that are eligible for the supplemental funds, and have not already been fully funded, will receive supplemental funding.

6. Reallocation of Unspent Funds. If funds designated for a specific grant Category, HOC, or for supplemental funding remain unspent after the formulas have been run and award recommendations are determined, HUD may, at its discretion, reallocate those funds to any other funding Category or supplemental funding area under this NOFA. Additionally, HUD may reallocate unspent funds to any HOC jurisdiction or to HUD Headquarters for awards under this NOFA. HUD may also reallocate unspent funds for housing counseling support activities.

6. Lead-Based Paint Hazard Control Program, beginning at page 13836:

On page 13838, section III.A.1.a., third column, is corrected to read as follows: a. “General applicants” are new applicants, previously funded lead-based paint hazard control grantee applicants whose period of performance ended prior to the NOFA submission date, and current grantees with grants ending on or before December 31, 2005 (including those who are not awarded under the Competitive Performance-Based Renewal category), and will be evaluated and scored as a separate group. Grantee applicants that are eligible to compete under the Competitive Performance-Based Renewal category will be evaluated and scored as a separate group.

On page 13848, section V.A.3, third column, the heading is corrected to read as follows: “3. Rating Factor 3: Soundness of Approach, (40 points).”

7. Healthy Homes Technical Studies Program, beginning at page 13860:

Beginning on page 13864, section IV.B.1.i., first column and continuing to page 13865, under “Required Forms and Budget Material,” delete the bullet reading, “Form HUD 2994 Client Comments and Suggestions (Optional)” and substitute the following:

—Form HUD-2993 Acknowledgement of Application Receipt (applicable to paper copy submissions only)

8. Lead Technical Studies, beginning at page 13871:

On page 13876, section IV.B.1.j, first column, under “Required Forms and Budget Material,” add the following:

—Form HUD-2993 Acknowledgment of Application Receipt (applicable to paper copy submissions only)

9. Lead Outreach Grant Program, beginning at page 13881:

On page 13884, section IV.B.2.b.(7), third column, remove the bullet that reads, “HUD's waiver from submitting electronically (if applicable)”

On pages 13891-13895, delete the forms, HUD-96012, 96013, 96014, and 96015, and Work Plan Development Worksheet.

10. Lead Hazard Reduction Demonstration Program, beginning on page 13896:

On page 13900, section V.B., third column, remove the bullet that reads, “HUD's waiver from submitting electronically (if applicable).”

11. Healthy Homes Demonstration Program, beginning at page 13919:

On page 13920, Overview Information, section G.1., first column, the last sentence is corrected to read as follows: “Appendix A, which contains forms that are required to be completed and submitted as part of your response to the rating factors that are discussed in Section V, can be found at the end of the NOFA. Appendices A through D can be found and downloaded from HUD's Web site at: http://www.hud.gov/offices/adm/grants/fundsavail.cfm.”

On page 13923, section III.C.3.n., third column, correct the last sentence to read as follows: “See section V.A.2.c., Rating Factor 3.3 for recommendations for implementing Section 3 Employment Opportunities.”

On page 13924, section IV, “Checklist for Healthy Homes Demonstration Program Applicants,” third column, remove forms HUD-96013 and HUD-96014, which are not part of this application.

On page 13924, section IV.B.7, third column, remove the item that reads “HUD's Waiver from submitting electronically (if applicable).”

On page 13924, section IV B.7. under “Checklist for Healthy Homes Demonstration Program Applicants,” beginning on the second column and continuing to the third column under, “Required materials in response to rating factors,” third column, is corrected by adding “Form HUD-27300 Questionnaire for HUD's Initiative on Removal of Regulatory Barriers.”

On page 13926, section V.A.2.a.(4), middle column, the second paragraph of this section that begins on the top of the middle column is revised to read as follows:

You must complete and submit the Factor 1, Table 1 Capacity of the Applicant and Relevant Organizational Experience (which may be found at the end of this NOFA) to support narrative information submitted. Include this table in supporting materials for your application. It will not be counted toward your page limit.

On page 13929, section V.A.2.d.(2), first column, the last two sentences of this paragraph is revised to read as follows: “Letters of support (letters that indicate support, but do not specify a monetary commitment to the project) will not be considered in the scoring of Rating Factor 4 (Factor 4 table may be found at the end of this NOFA). Include information to address the following elements:”

On page 13931, section VIII.B, third column, is revised to read as follows:

Appendix A contains forms that are required to be completed and submitted as part of your response to the rating factors that are discussed in Section V and can be found at the end of this NOFA.

12. Operation Lead Elimination Action Program, beginning at page 13936:

On page 13939, section IV.B.a.(2), third column, under “Checklist and Submission Table of Contents Lead Elimination Action Program,” remove the item that reads: “HUD's' Waiver from submitting electronically (if applicable)”

13. Youthbuild, beginning at page 13977:

On page 13985, section V.E., middle column, the sixth and seventh bulleted items are corrected to read as follows:

• Number and percent of graduates placed in employment or education (for percentage calculation, numerator: The number of graduates who have entered employment or enrolled in post secondary education; denominator: The number of graduates from the Youthbuild program); and

• Number and percentage of participants who made literacy and numeracy gains (measures the increase in literacy and numeracy skills of participants through a common assessment tool administered at program registration and regular intervals thereafter); for percentage calculation, numerator: The number of Youthbuild program participants who increase one or more education functioning levels; denominator: The number of Youthbuild program participants who have completed a year in the program

14. Public Housing Neighborhood Networks, beginning at page 14023:

On page 14024, Overview Information, section F., first column, is revised to read as follows:

F. Dates. The application submission date is July 11, 2005. Please see the General Section of the SuperNOFA for application submission and timely receipt requirements.

On page 14027, section III.C.1., first column, add a new paragraph “g.,” to read as follows:

g. Off-site Physical Improvements. Physical improvements that relate to providing space for a Neighborhood Networks center are eligible activities, including for off-site centers. If renovation, conversion, or repair is done off-site, the PHA must describe this circumstance in their narrative and provide documentation with its application that it has control of the proposed property for at least five years. Control can be demonstrated through a lease agreement, ownership documentation, or other appropriate documentation.

On page 14028, section IV.B.4.(2), tab 2, middle column, a new paragraph “4” is added to read as follows:

4. If applicable, documentation of site control (for 5 years) for off-site physical improvements.

On page 14028, section IV.E.2.c, third column, is corrected to read as follows:

c. NN funds may only be used for the types of salaries described in this section according to the restrictions described herein. NN funds may not be used to pay for salaries of any other kind. NN funds may only be used to pay for salaries of staff that provide direct services to residents. Direct services staff, for purposes of this NOFA, are defined as housing authority personnel who, as their primary responsibility, provide services directly to residents that participate in the activities described in this application, e.g., computer skills trainer.

On page 14028, section IV.E.4.f., third column, is revised to read as follows:

f. Salaries and fringe benefits for staff that are not direct services staff. Direct services staff, for purposes of this NOFA, are defined as housing authority personnel who, as their primary responsibility, provide services directly to residents that participate in the activities described in this application, e.g., computer skills trainer.

15. Public Housing Resident Opportunities and Self-Sufficiency (ROSS) Program, beginning at page 14054:

On page 14063, section III.C.2.i., first column, is revised by adding the following: “Tribal/TDHE applicants must provide a letter certifying that they will comply with this requirement.”

On page 14065, section IV.E.6.h., third column, remove paragraph (h).

16. Public Housing Family Self-Sufficiency Program, beginning at page 14087:

On page 14087, section F. under “Overview Information,” change the application submission date of “June 20, 2005” to “June 28, 2005.”

On page 14088, section A.3. under “Overview Information”, middle column, the paragraph is revised to read as follows:

3. Award Amounts: Award amounts will be used to pay only for the annual salary and fringe benefits of a FSS program coordinator(s). Award amounts will be based on locality pay rates for professions similar to that of an FSS program coordinator. Individual award amounts will not exceed $65,000 per FSS program coordinator for which the applicant is eligible. The maximum grant amount for new applicants is $65,000 because new applicants may apply only for funding for one FSS program coordinator.

On page 14088, revise the table to read as follows:

Grant program | Total funding | Eligible applicants | Maximum grant amount
Public and Indian Housing Family Self-Sufficiency | $22,950,000 | PHAs, tribes/TDHEs only | $65,000 maximum salary amount per FSS program coordinator for which the applicant is eligible. Maximum grant amount for new applicants is $65,000 because they may apply only for one FSS program coordinator.

On page 14089, section III.C., middle column, add a new paragraph III.C.1, and renumber subsequent paragraphs accordingly, to read as follows:

1. Eligible Activities. FSS grant funds may only be used to pay for the annual salary and fringe benefits of a FSS Program Coordinator(s).

On page 14090, section III.C.2.g., middle column, is revised to read as follows:

g. Number of Program Coordinators.

(1) Renewal Applicants.

(a) Maintaining Program Size. Applicants that received funding from the Operating Fund or the 2004 FSS NOFA may apply for renewal of each FSS coordinator position(s) that has been filled by the applicant in either of the past two years under the Operating Fund or the 2004 FSS NOFA.

Funding for renewal of more than one program coordinator position is contingent upon HUD field office approval. For renewal applicants, HUD will fund the renewal of the FSS program coordinator(s) salary and fringe benefits, not to exceed $65,000.

(b) Expanding Program Size. Applicants wishing to expand their FSS program may in addition to requesting funds for their current FSS program coordinator(s), also request funds for one additional FSS coordinator. Applicants seeking one additional FSS coordinator, must demonstrate why the current FSS program coordinator staffing is not sufficient to manage resident needs and how they plan to expand their program. See rating factors under section V. for relevant criteria. Note: Funding priority will be given to renewing existing staff positions for renewal applicants and to applicants wishing to implement a new program (see new applicants below). If sufficient funding is available to fund expanding applicants' existing programs, HUD will do so in accordance with the selection process under Section V(B).

(2) New Applicants. A PHA or tribe/TDHE that has not received funding under the Operating Fund for a PH FSS Program Coordinator may apply for only one program coordinator position as follows:

(a) Up to one full-time FSS coordinator position for a PHA or tribe/TDHE with HUD approval to administer an FSS program of 25 or more FSS slots.

(b) Up to one full-time position per application for joint PHA/tribe/TDHE applicants that have HUD approval to administer a total of at least 25 FSS slots between or among them.

On pages 14107, section 5.d., remove the dollar amount “63,000” and add in its place the following amount, “$65,000.”

On page 14108, section 10.a, remove the dollar amount “$63,000” and add in its place the following amount, “$65,000.”

On page 14108, section 9, remove the three references to “9/30/03” and add in its place a reference to the following date, “9/30/04.”

17. Assisted Living Conversion Program, beginning at page 14148:

On page 14149, section I, middle column, third sentence of the last full paragraph, revise to read, “The Department has set-aside approximately $15 million for emergency capital repairs.”

On page 14150, section III.A.1, first column, add a new paragraph “g.” to read as follows: g. Owner of an Assisted Living Facility.

On page 14157, section IV.F., middle column, add a new paragraph “5.” to read as follows:

5. Hubs and Field Offices addresses. If you are granted a waiver to the electronic application submission requirement, you must submit an original and four copies of the ALCP application to the director of the appropriate HUD Multifamily Hub Office with jurisdiction over the housing development identified in your application. For your use in determining the appropriate HUD Multifamily Hub Office to which you must submit your application, see HUD's Web site at http://www.HUD.gov/offices/adm/grants/nofa05/grpalcp.cfm. The HUD Program Centers are under each Hub. If you send your application to the wrong Hub Office, it will be rejected. Therefore, if you are uncertain as to which Hub Office to submit your application, you are encouraged to contact the local HUD Office that is closest to your project's location to ascertain the Office's jurisdiction and to ensure that you submit your application to the correct local HUD Multifamily Hub Office.

On page 14160, section VII.A, third column, the first paragraph is revised to read as follows:

You should contact the HUD Multifamily Hub where you will be mailing your ALCP application. For a list of HUD's Multifamily Hub Offices, see HUD's Web site at http://www.HUD.gov/offices/adm/grants/nofa05/grpalcp.cfm.

18. Continuum of Care Homeless Assistance Programs, beginning at page 14272:

On page 14279, section III.C.3.e.(2)(b), middle column, is revised to read as follows:

(b) The total request for each renewable project cannot exceed the average yearly amount received in your current grant for that project; which for the first time, must include the exact amount awarded for administration in that grant. Grants being renewed, which current award included hard development costs, must in the competition, recalculate their administrative allocation not to exceed five percent of the average yearly amount of the activities being renewed. Projects proposing both to renew the existing project and expand the number of units or number of participants receiving services must submit a new project proposal for the expansion portion of the project. HMIS activities being renewed should be included on the HMIS budget chart.

On page 14288, section 2., delete the Form HUD-2992 “Certification Regarding Debarment and Suspension.”

On page 14289, sections 3, 4, and 5, delete the Form HUD-2992 “Certification Regarding Debarment and Suspension.”

On page 14290, section 6, delete the Form HUD-2992 “Certification Regarding Debarment and Suspension.”

On page 14294, Exhibit 1: Continuum of Care Narrative and Form HUD-40076 CoCB instruction, section e. is revised to read as follows:

e. List, using the format in HUD 40076 CoC—B:(1) The specific names and types of organizations involved in your Continuum of Care (CoC) planning process, such as State and local government agencies, Public Housing Authorities (PHAs), nonprofit organizations, individual businesses or business associations, homeless or formerly homeless persons, and others, including law enforcement, hospital or medical facility representatives, and funders; (2) the one or two subpopulation(s) the organization/entity primarily serves and whose interests they are specifically focused on representing; and (3) each organization's level of participation in the planning process; i.e., the percentage of meetings attended. High participation levels might include: steering committee member attends all monthly planning meetings, housing subcommittee member attends most CoC planning meetings, gaps analysis subcommittee chairperson attends all group meetings and most CoC planning meetings, etc. Medium attendance levels include attending between 40 percent and 80 percent of CoC planning meetings. Participants who attend less than 40 percent of CoC planning meetings have low participation levels. In order to obtain a higher competitive score for “participation,” planning participants must attend more than 80 percent of the planning and/or committee meetings. In addition, if more than one geographic area is claimed on the 2005 Application Summary page, you must indicate which geographic area(s) each organization represents in your Continuum of Care planning process. (Although you may require multiple pages to respond to 1e, your response will count as only one page toward the 30-page limit.)

On page 14342, Exhibit 2R: SHP Project Information—Continued, revise the statement under “Project Information Instructions” to read as follows:

Items 1, 2, and 3 are self-explanatory. Renewal applicants for a dedicated HMIS project should answer items 1, 3, 4C, and D.

Dated: May 12, 2005.
Darlene F. Williams,
General Deputy Assistant, Secretary for Administration.

[FR Doc. 05-9831 Filed 5-17-05; 8:45 am]

BILLING CODE 4210-32-P